DEPARTMENT OF THE INTERIOR

National Park Service

[NPS-WASO-NAGPRA-15213; PPWOCRADN0-PCU00RP14.R50000]

Notice of Intent To Repatriate Cultural Items: U.S. Department of Defense, Department of the Navy, Washington, DC

AGENCY: National Park Service, Interior.

ACTION: Notice.

SUMMARY: The U.S. Department of Defense, Department of the Navy (DoN), in consultation with the Native Village of Barrow Inupiat Traditional Government, has determined that the cultural items listed in this notice meet the definition of unassociated funerary objects and objects of cultural patrimony. Representatives of any Indian tribe not identified in this notice that wish to claim these cultural items should submit a written request to the DoN. If no additional claimants come forward, transfer of control of the cultural items to the Indian tribe stated in this notice may proceed.

DATES: Representatives of any Indian tribe not identified in this notice that wish to claim these cultural items should submit a written request with information in support of the claim to the DoN at the address in this notice by April 30, 2014.

ADDRESSES: Dave M. Grant, Department of the Navy, NAVFAC NW., 1101 Tautog Circle, Suite 102, Silverdale, WA 98315-1101, telephone (360) 396-0919, email dave.m.grant@navy.mil.

SUPPLEMENTARY INFORMATION: Notice is here given in accordance with the Native American Graves Protection and Repatriation Act (NAGPRA), 25 U.S.C. 3005, of the intent to repatriate cultural items under the control of the U.S. Department of Defense, Department of the Navy, Washington, DC, that meet the definition of unassociated funerary objects or objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1951 to 1953, unassociated funerary objects and objects of cultural patrimony were removed from the sites of Birnirk, Nuvuk, and the Brower Grave site near Point Barrow in North Slope Borough, AK. The objects were recovered during archeological excavations authorized under an Antiquities Act permit and directed by Wilbert Carter of the Peabody Museum, Harvard University. The collections were returned to the Peabody Museum, were transferred for a time to Tufts University, and were returned to the Peabody Museum by Mr. Carter in 1984. The archeological collections were transferred to a Department of the Navy contract facility in Conshohocken, PA in 2006, and in 2011, the objects were transferred to the Museum of the North, University of Alaska at Fairbanks.

The four unassociated funerary objects were retrieved from the “Brower Grave Site, Barrow,” and include three pottery sherds and one antler arrow point. The four objects from the Brower Grave Site were evidently recovered from the surface, as there is no indication that the grave was excavated.

Two objects of cultural patrimony (a wooden mask from Mound 5 and an ivory drum handle with an effigy end from Midden H) were removed in July 1952 from the Nuvuk site on Point Barrow. One object of cultural patrimony (a small wooden mask from Mound Q) was removed in 1951 at the Birnirk site near Point Barrow. All three objects were evaluated during the NAGPRA consultation process and determined to be objects of cultural patrimony.

The wooden mask from Nuvuk Mound 5 was considered during the consultation to have reflected dance ceremonies probably within a karigi, a nexus of whale hunting activity and broader social interaction. Robert Spencer (The North Alaskan Eskimo, Bureau of American Ethnology Bulletin 171 (1959), pages 293-294) discussed masks as follows: “These were never too important in the North Alaskan Eskimo areas . . . . The masks which were used were principally dance masks. There may have been a concept of supernatural impersonation but certainly, it is not well developed. A suggestion of this appears in the dances associated with the whaling feasts . . . . The mask was a simple wooden face mask with slits for eyes and mouth. . . .” The mask from Nuvuk Mound 5 conforms very closely to this description. Spencer noted that John Murdoch (Ethnological Results of the Point Barrow Expedition, Ninth Annual Report of the Bureau for Ethnology (1892), pages 366-369) had observed and illustrated such masks in use in the Point Barrow area.

The ivory drum handle with an effigy end from Nuvuk Midden H was considered to be associated with dance celebrations that continue to be practiced on various occasions by modern inhabitants of the region. This continuity was emphasized by Wilbert Carter (Masterpieces of the Peabody Museum (1978), page 19): “Eskimos were also known to carve a lifelike human face on one end of a drum handle, the end obscured from view under the tambourine-type drumhead. Even modern Eskimos immediately interpret this and see no contradiction in the amount of artistic effort exerted to produce a visage that is hidden from view. The hidden head is the “voice” of the drum!”

The small wooden mask from Birnirk Mound Q was recovered from an archeological context that suggested association with the early Birnirk period, dating to between A.D. 500 and 700. Such small masks may have served in shamanistic practices or amulet uses; they may also have been masks of “little people.”

Determinations Made by the U.S. Department of Defense, Department of Navy

Officials of the U.S. Department of Defense, Department of Navy have determined that:

• Pursuant to 25 U.S.C. 3001(3)(B), the four objects from the Brower Grave Site are reasonably believed to have been placed with or near individual human remains at the time of death or later as part of the death rite or ceremony and are believed, by a preponderance of the evidence, to have been removed from a specific burial site of a Native American individual.

• Pursuant to 25 U.S.C. 3001(3)(D), the three objects discussed above that were excavated from the Birnirk and Nuvuk sites have ongoing historical, traditional, or cultural importance central to the Native Village of Barrow Inupiat Traditional Government.

• Pursuant to 25 U.S.C. 3001(2), there is a relationship of shared group identity that can be reasonably traced between the unassociated funerary objects and objects of cultural patrimony and Native Village of Barrow Inupiat Traditional Government.

Additional Requestors and Disposition

Representatives of any Indian tribe not identified in this notice that wish to claim these cultural items should submit a written request with information in support of the claim to Dave M. Grant, Department of the Navy, NAVFAC NW., 1101 Tautog Circle, Suite 102, Silverdale, WA 98315-1101, telephone (360) 396-0919, email dave.m.grant@navy.mil, by April 30, 2014. After that date, if no additional claimants have come forward, transfer of control of the unassociated funerary objects and objects of cultural patrimony to the Native Village of Barrow Inupiat Traditional Government may proceed.

The U.S. Department of Defense, Department of the Navy is responsible for notifying the Native Village of Barrow Inupiat Traditional Government that this notice has been published.

Dated: March 10, 2014.
Sherry Hutt,
Manager, National NAGPRA Program.

[FR Doc. 2014-07137 Filed 3-28-14; 8:45 am]

BILLING CODE 4312-50-P